DEPARTMENT OF STATE

[Public Notice 7400]

U.S. Advisory Commission on Public Diplomacy; Notice of Meeting

The U.S. Advisory Commission on Public Diplomacy will hold a public meeting from 9 a.m. to 11 a.m. on May 12, 2011, in Conference Room 1107 of the State Department's Harry S Truman building at 2201 C Street, NW.

The Commission will hear an update on the “strategic framework” on public diplomacy released in March 2010 and discuss whether U.S. Public diplomacy is striking the right balance when engaging youth, elite, online or offline audiences. The Commission welcomes commentary from the public on these and other topics relevant to its mission.

This meeting is open to the public, the State Department, Defense Department, Congress, and other organizations. Seating is limited. To attend or request further information, contact the Commission at (202) 203-7463 or pdcommission@state.gov by 5 p.m. on May 9, 2011. Please arrive for the meeting by 8:45 a.m.

As access to the Department of State is controlled, members of the public wishing to attend the meeting must notify the Commission, no later than 5 p.m., May 9, 2011, providing the information below. If notified after this date, the Department's Bureau of Diplomatic Security may not be able to complete the necessary processing required to attend the meeting. Any person requesting reasonable accommodation should notify the Commission by the same date.

Each member of the public wishing to attend the meeting should provide: his/her name, company or organizational affiliation; phone number; date of birth; and identifying data such as driver's license number, U.S. Government ID, or U.S. Military ID, to the Commission. A RSVP list will be provided to Diplomatic Security. One of the following forms of valid photo identification will be required for admission to the Department of State building: U.S. driver's license, passport, U.S. Government ID or other valid photo ID. Personal data is requested pursuant

to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information.

The U.S. Advisory Commission on Public Diplomacy is charged with appraising U.S. Government activities intended to understand, inform, and influence foreign publics and submitting reports on the same to the President, the Secretary of State, and the Congress. The Commission may conduct studies, inquiries, and meetings, as it deems necessary. It may assemble and disseminate information and issue reports and other publications, subject to the approval of the Chairperson, in consultation with the Executive Director.

The members of the Commission are: William Hybl of Colorado, Chairman; Ambassador Lyndon Olson of Texas, Vice Chairman; Jay Snyder of New York; Ambassador Penne Korth-Peacock of Texas; John Osborn of Pennsylvania; and Lezlee Westine of Virginia. The seventh seat on the Commission is currently vacant.

The following individuals are nominated to the Commission but await Senate confirmation as of this writing: Ambassador Ryan Crocker of Texas, Sim Farar of California, and Anne Wedner of Illinois.

The Commission is a bipartisan panel established under Section 604 of the United States Information and Educational Exchange Act of 1948, commonly known as the Smith-Mundt Act, as amended (22 U.S.C. 1469) and Section 8 of Reorganization Plan Numbered 2 of 1977. The U.S. Advisory Commission on Public Diplomacy is authorized by Public Law 101-246 (2009), 22 U.S.C. 6553, and has been further authorized through September 20, 2011.

Dated: April 18, 2011.
Matthew C. Armstrong,
Executive Director, Department of State.

[FR Doc. 2011-10074 Filed 4-25-11; 8:45 am]

BILLING CODE 4710-11-P